DEPARTMENT OF STATE

[Public Notice: 12110]

Biodiversity Beyond National Jurisdiction

ACTION: Notice of public meeting.

SUMMARY: The Department of State will hold an information session regarding the Agreement under the United Nations Convention on the Law of the Sea on the conservation and sustainable use of marine biological diversity of areas beyond national jurisdiction.

DATES: The public meeting will be held via WebEx on June 27, 2023, 2-3:30 p.m. EDT.

FOR FURTHER INFORMATION CONTACT: If you would like to participate in this meeting, please provide your (1) name, (2) organization/affiliation, and (3) email address and phone number, to Meaghan Cuddy at CuddyMR@state.gov or 202-340-3272.

SUPPLEMENTARY INFORMATION: The Department of State will hold a public meeting at 2 p.m. on Tuesday, June 27, 2023, to discuss the iAgreement under the United Nations Convention on the Law of the Sea on the conservation and sustainable use of marine biological diversity of areas beyond national jurisdiction (BBNJ). This public meeting will be held by way of WebEx, with a capacity of up to 1000 members of the public to participate. To RSVP, participants should contact the meeting coordinator, Meaghan Cuddy, by email at CuddyMR@state.gov for log on and dial-in information, and to request reasonable accommodation. Requests for reasonable accommodation received after June 23, 2023, will be considered but might not be possible to fulfill.

Negotiations on the BBNJ Agreement concluded at the resumed fifth session of the BBNJ intergovernmental conference (IGC) from February 20-March 4, 2023 The Agreement was adopted by the IGC on June 19, 2023, at the United Nations. It is anticipated that the Agreement will be opened for signature on September 20, 2023. Additional information on the BBNJ Agreement is available at www.un.org/bbnj.

We are inviting interested U.S. stakeholders to this virtual public meeting to share views about the BBNJ Agreement. We will provide a brief overview of the Agreement and next steps post-adoption and listen to the viewpoints of U.S. stakeholders. The information obtained from this session will help the U.S. delegation in its preparations for the next steps following the adoption of the agreement.

Authority: 22 U.S.C. 2656.

Jennifer Becker,
Acting Director, Office of Ocean and Polar Affairs, Department of State.

[FR Doc. 2023-13506 Filed 6-23-23; 8:45 am]

BILLING CODE 4710-09-P